DEPARTMENT OF COMMERCE

Patent and Trademark Office

[Docket No. 000317075-0075-01]

RIN 0651-XX22

Public Advisory Committees

AGENCY: Patent and Trademark Office, Commerce.

ACTION: Notice and request for nominations.

SUMMARY: On November 29, 1999, the President signed into law the Patent and Trademark Office Efficiency Act, Public Law 106-113, Title VI, Subtitle G, which, among other things, established Public Advisory Committees to review the policies, goals, performance, budget and user fees of the United States Patent and Trademark Office (USPTO) with respect to patents, in the case of the Patent Public Advisory Committee; and with respect to trademarks in the case of the Trademark Public Advisory Committee. To implement these statutory changes, the USPTO is requesting nominations for members to these Committees.

DATES: Nominations must be submitted on or before April 28, 2000.

ADDRESSES: Persons wishing to submit nominations should send the nominee's resume to Nicholas Flagler by electronic mail to nicholas.flagler@uspto.gov; by facsimile transmission marked to his attention at (703) 305-8664, or by mail marked to his attention and addressed to the Office of the Commissioner, United States Patent and Trademark Office, Washington, DC 20231.

FOR FURTHER INFORMATION CONTACT: Nicholas Flagler by telephone at (703) 305-8600, by electronic mail to nicholas.flagler@uspto.gov, by facsimile transmission marked to his attention at (703) 305-8664, or by mail marked to his attention and addressed to the Office of the Commissioner, U.S. Patent and Trademark Office; Washington, DC 20231.

SUPPLEMENTARY INFORMATION: Under the Patent and Trademark Office Efficiency Act, the Secretary of Commerce must appoint members of the Patent and Trademark Public Advisory Committees by June 29, 2000. The Advisory Committees will:

• Review and advise the Director of the United States Patent and Trademark Office (USPTO) on matters relating to policies, goals, performance, budget, and user fees of patents and trademarks, respectively; and

• Within 60 days after the end of each fiscal year, (1) prepare an annual report of the matters listed above, (2) transmit the report to the Secretary of Commerce, the President, and the Committees on the Judiciary of the Senate and the House of Representatives, and (3) publish the report in the Official Gazette of the USPTO.

Members of the Patent and Trademark Advisory Committees will be appointed by and serve at the pleasure of the Secretary of Commerce. The Secretary will designate a chair of each Advisory Committee, whose term as chair will be for 3 years. In making appointments to each Committee, the Secretary shall consider the risk of loss of competitive advantage in international commerce or other harm to U.S. companies as a result of such appointments.

Advisory Committees

The Patent Public Advisory Committee will be composed of nine voting members who represent small and large entity applicants located in the United States. The composition of the Advisory Committee will be proportional to the number of applications filed by small and large entity applicants. However, in no case will members who represent small entity patent applicants (e.g., small businesses, independent inventors, and non-profit organizations) constitute less than 25 percent of the Patent Public Advisory Committee. The Advisory Committee will include at least one independent inventor and will include individuals with substantial experience and achievement in finance, management, labor relations, science, technology, and office automation.

The Trademark Public Advisory Committee will be composed of nine voting members and will include individuals with substantial experience and achievement in finance, management, labor relations, science, technology, and office automation.

In addition to the voting members, each Advisory Committee will include a representative of each labor organization recognized by the United States Patent and Trademark Office. Such representatives will be non-voting members of the Advisory Committee.

Procedures and Guidelines of the Patent and Trademark Public Advisory Committees

Each appointed member of the Patent and Trademark Advisory Committees will serve for a term of 3 years, with one-third of the members rotating out each year. Therefore, of the members first appointed, three will be appointed to a term of 1 year, and three will be appointed for a term of 2 years.

As required by the Act, members of the Patent and Trademark Advisory Committees will receive compensation for each day, including travel time, while the member is attending meetings or engaged in the business of that Advisory Committee. The rate of compensation is the daily equivalent of the annual rate of basic pay in effect for level III of the Executive Schedule under section 5314 of title 5, United States Code. While away from home or regular place of business, each member will be allowed travel expenses, including per diem in lieu of subsistence, as authorized by section 5703 of title 5, United States Code.

The United States Patent and Trademark Office will provide the necessary administrative support, including technical assistance, for the Committees. Members of each Advisory Committee will be provided access to records and information in the United States Patent and Trademark Office, except for personnel or other privileged information, and information concerning patent applications required to be kept in confidence by section 122.

Applicability of Certain Ethics Laws

Members of each Public Advisory Committee shall be special Government employees within the meaning of section 202 of title 18, United States Code. The following additional information assumes that members are not engaged in Public Advisory Committee business more than sixty days each calendar year:

• Each member will have to file a confidential financial disclosure form upon appointment. 5 CFR 2634.202(c), 2634.204, 2634.903, and 2634.904(b).

• Each member will be subject to many of the public integrity laws, including criminal bars against representing a party, 18 USC 203(c), or acting where the United States has an interest, 18 USC 205(c), in a particular matter that came before the member's committee and that involved at least one specific party. See also 18 USC 207 for post-membership bars. A member also must not act on a matter in which the member (or any of certain closely related entities) has a financial interest. 18 USC 208.

• Representation of foreign interests may also raise issues. 35 USC 5(a)(1) and 18 USC 219.

Meetings of the Patent and Trademark Public Advisory Committees

Meetings of each Advisory Committee will take place at the call of the chair to consider an agenda set by the chair. Meetings may be conducted in person, electronically through the Internet, or by other appropriate means. The meetings of each Advisory Committee will be open to the public except each Advisory Committee may, by majority vote, meet in executive session when considering personnel or other confidential matters. Nominees must also be available and have the ability to participate in Committee business through the Internet.

Procedure for Submitting Nominations

Submit resumes for nominations for the Patent Public Advisory Committee and the Trademark Public Advisory Committee to Nicholas Flagler (see ADDRESSES). Each nominee must (1) be a citizen of the United States, and (2) represent the interests of at least some of the diverse USPTO users, e.g., either a large or small entity located in the United States, including—if the nominee represents small entity interests—small businesses, independent inventors, or nonprofit organizations.

Dated: March 23, 2000.
Q. Todd Dickinson,
Assistant Secretary of Commerce and Commissioner of Patents and Trademarks.

[FR Doc. 00-7709 Filed 3-28-00; 8:45 am]

BILLING CODE 3510-16-U